FEDERAL MARITIME COMMISSION

Ocean Transportation Intermediary License Revocations

The Federal Maritime Commission hereby gives notice that the following Ocean Transportation Intermediary licenses have been revoked pursuant to section 19 of the Shipping Act of 1984 (46 U.S.C. app. 1718) and the regulations of the Commission pertaining to the licensing of Ocean Transportation Intermediaries, effective on the corresponding date shown below:

License Number: 013861N.

Name: Eastern Transport International Inc.

Address: 144-29 156th Street, Jamaica, NY 11434.

Date Revoked: December 25, 2004.

Reason: Failed to maintain a valid bond.

License Number: 004505F.

Name: Freight Master Systems, International, Inc.

Address: 3760 Guion Road, Indianapolis, IN 46222.

Date Revoked: December 16, 2004.

Reason: Failed to maintain a valid bond.

License Number: 004608F.

Name: Gene International.

Address: 2125 Center Avenue, Suite 505, Fort Lee, NJ 07024.

Date Revoked: January 7, 2005.

Reason: Failed to maintain a valid bond.

License Number: 017260N.

Name: V.I.P. Relocations, LTD.

Address: 21-01 44 Road, Long Island City, NY 11101.

Date Revoked: January 7, 2005.

Reason: Failed to maintain a valid bond.

Sandra L. Kusumoto,
Director, Bureau of Certification and Licensing.

[FR Doc. 05-1142 Filed 1-19-05; 8:45 am]

BILLING CODE 6730-01-P